DEPARTMENT OF THE TREASURY

Internal Revenue Service

Open Meeting of the Taxpayer Advocacy Panel Taxpayer Assistance Center Improvements Project Committee

AGENCY: Internal Revenue Service (IRS), Treasury.

ACTION: Notice of meeting.

SUMMARY: The Taxpayer Advocacy Panel Taxpayer Assistance Center Improvements Project Committee will conduct an open meeting and will solicit public comments, ideas, and suggestions on improving customer service at the Internal Revenue Service.

DATES: The meeting will be held Wednesday, October 12, 2016.

FOR FURTHER INFORMATION CONTACT: Gretchen Swayzer at 1-888-912-1227 or 469-801-0769.

SUPPLEMENTARY INFORMATION: Notice is hereby given pursuant to Section 10(a)(2) of the Federal Advisory Committee Act, 5 U.S.C. App. (1988) that a meeting of the Taxpayer Advocacy Panel Taxpayer Assistance Center Improvements Project Committee will be held Wednesday, October 12, 2016, at 2:00 p.m. Eastern Time. The public is invited to make oral comments or submit written statements for consideration. Due to limited conference lines, notification of intent to participate must be made with Otis Simpson. For more information please contact: Gretchen Swayzer at 1-888-912-1227 or 469-801-0769, TAP Office, 4050 Alpha Rd, Farmers Branch, TX 75244, or contact us at the Web site: http://www.improveirs.org.

The committee will be discussing various issues related to the Taxpayer Assistance Centers and public input is welcomed.

Dated: September 6, 2016.
Theresa Singleton,
Acting Director, Taxpayer Advocacy Panel.

[FR Doc. 2016-21949 Filed 9-12-16; 8:45 am]

BILLING CODE 4830-01-P